SECURITIES AND EXCHANGE COMMISSION

[Release No. 34-66208; File No. SR-Phlx-2012-06]

Self-Regulatory Organizations; NASDAQ OMX PHLX LLC; Notice of Filing and Immediate Effectiveness of Proposed Rule Change Amending the Real-Time Risk Management Fee and Other Clarifying Amendments

January 20, 2012.

Correction

In notice document 2012-1583 appearing on pages 4077-4079 in the issue of January 26, 2012 make the following correction:

On page 4079, in the first column, in the last full paragraph, in the last sentence, “February 13, 2012”, should read “February 16, 2012.”

[FR Doc. C1-2012-1583 Filed 2-7-12; 8:45 am]

BILLING CODE 1505-01-D